DEPARTMENT OF TRANSPORTATION

Federal Aviation Administration

14 CFR Part 39

[Docket No. FAA-2005-21725; Directorate Identifier 2004-SW-45-AD; Amendment 39-14342; AD 2005-21-04]

RIN 2120-AA64

Airworthiness Directives; Bell Helicopter Textron Model 47D1, 47G, 47G-2, 47G-2A, 47G-2A-1, 47G-3, 47G-3B, 47G-3B-1, 47G-3B-2, 47G-3B-2A, 47G-4, 47G-4A, 47G-5, 47G-5A and Coastal Helicopters, Inc. Model OH-13H (Tomcat Mark 5A, 6B, 6C) Helicopters

AGENCY: Federal Aviation Administration, DOT.

ACTION: Final rule.

SUMMARY: This amendment adopts a new airworthiness directive (AD) for Bell Helicopter Textron (Bell) Model 47D1, 47G, 47G-2, 47G-2A, 47G-2A-1, 47G-3, 47G-3B, 47G-3B-1, 47G-3B-2, 47G-3B-2A, 47G-4, 47G-4A, 47G-5, 47G-5A and Coastal Helicopters, Inc. Model OH-13H (Tomcat Mark 5A, 6B, 6C) helicopters that have a certain scissors assembly or weld assembly scissors bracket installed. The AD requires, within 60 days, determining and recording the total hours time-in-service (TIS) for each Parts Manufacturer Approval (PMA)-produced scissors assembly and weld assembly scissors bracket and establishes a life limit for each affected part. This amendment is prompted by the need to establish a life limit on scissors assemblies and weld assembly scissors brackets produced under PMA No. PQ808SW or installed per Supplemental Type Certificate (STC) No. SH2772SW. The actions specified by this AD are intended to establish a life limit to prevent using a scissors assembly or weld assembly scissors bracket past it's life limit, which could result in failure of the part and subsequent loss of control of the helicopter.

DATES: Effective November 21, 2005.

ADDRESSES: You may get the service information identified in this AD from Texas Helicopter Co., Inc., P.O. Box 177686, Irving, Texas 75017, phone (972) 399-1045, fax (972) 790-6397.

Examining the Docket

You may examine the docket that contains this AD, any comments, and other information on the Internet at http://dms.dot.gov, or at the Docket Management System (DMS), U.S. Department of Transportation, 400 Seventh Street, SW., Room PL-401, on the plaza level of the Nassif Building, Washington, DC.

FOR FURTHER INFORMATION CONTACT: Marc Belhumeur, Aviation Safety Engineer, FAA, Rotorcraft Directorate, Rotorcraft Certification Office, Fort Worth, Texas 76193-0170, telephone (817) 222-5177, fax (817) 222-5783.

SUPPLEMENTARY INFORMATION: A proposal to amend 14 CFR part 39 to include an AD for the specified model helicopters was published in the Federal Register on July 6, 2005 (70 FR 38817). That action proposed to require, within 60 days, determining and recording the total hours TIS for each PMA-produced scissors assembly and weld assembly scissors bracket and establishing a life limit for each affected part.

We have reviewed Texas Helicopter Co., Inc. (THC) Service Bulletin No. SB 003, dated December 1, 2002. THC holds STC No. SH2772SW and produces parts under PMA No. PQ808SW. That service bulletin was issued to clarify maintenance inspections and retirement schedules. The service bulletin specifies maintaining Bell Model 47 series and all other helicopters utilizing a 74-150-259-1M or 74-150-259-3M control installation per STC SH2772SW or 74-150-117-13M scissors bracket weld assembly as PMA replacement, in accordance with THC Instructions For Continued Airworthiness (ICA), Doc. No. THC 2002-22 Rev. 0, dated December 1, 2002. Those ICAs refer to STC SH2772SW and contain the mandatory retirement times for the scissor assembly and weld assembly scissors bracket in the Airworthiness Limitations section.

Interested persons have been afforded an opportunity to participate in the making of this amendment. No comments were received on the proposal or the FAA's determination of the cost to the public. The FAA has determined that air safety and the public interest require the adoption of the rule as proposed.

Based on the manufacturer's production estimate, this AD will affect 350 helicopters of U.S. registry. Determining and recording the initial hours TIS of each scissors assembly will take 1 hour, replacing a scissors assembly will take 2 hours, and replacing a weld assembly scissors bracket will take 8 hours. The average labor rate is $65 per work hour. Required parts will cost approximately $1,300 for the 2 scissors assemblies required per helicopter and $2,500 for each weld assembly scissors bracket required per helicopter. Based on these figures, the total cost impact of the AD on U.S. operators is $1,580,250, assuming all operators determine and record the hours TIS once, and replace the scissors assembly and weld assembly scissors bracket once.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-21-04 Bell Helicopter Textron (Bell) and Coastal Helicopters, Inc. (CHI) (formerly Continental Copters, Inc.; and Tom-Cat Helicopters, Inc.): Docket No. FAA-2005-21725; Amendment No. 39-14342; Directorate Identifier 2004-SW-45-AD.

Applicability: The following helicopter models with the referenced Texas Helicopter Co., Inc. (THC) scissors assembly part number (P/N) or weld assembly scissors bracket P/N installed as a Parts Manufacturer Approval (PMA) replacement part or as part of the modification in accordance with Supplemental Type Certificate (STC) No. SH2772SW, certificated in any category.

Model | With scissors assembly P/N | Or weld assembly scissors bracket P/N
(1) Bell Model 47D1, 47G, 47G-2, 47G-2A, 47G-2A-1, 47G-3, 47G-3B, 47G-3B-1, 47G-3B-2, 47G-3B-2A, 47G-4, 47G-4A, 47G-5, 47G-5A; and | 74-150-949-9 or 74-150-949-5 or 74-150-249-5M | 74-150-117-13M.
(2) CHI OH-13H (Tomcat Mark 5A, 6B, or 6C)

Compliance: Required as indicated, unless accomplished previously.

To prevent using a scissors assembly or weld assembly scissors bracket past it's life limit, which could result in failure of the part and subsequent loss of control of the helicopter, accomplish the following:

(a) Within 60 days, determine and record on the service record or equivalent record the total hours time-in-service (TIS) of each affected part. If the TIS hours cannot be determined, replace the part with an airworthy part with known hours TIS before further flight.

(b) Thereafter, replace each affected part before it accumulates 5,000 hours TIS.

Note: Texas Helicopter Co., Inc. Service Bulletin No. SB 003, dated December 1, 2002, pertains to the subject of this AD.

(c) This AD establishes a life limit of 5,000 hours TIS for each affected PMA-produced scissors assembly and each affected PMA-produced weld assembly scissors bracket.

(d) To request a different method of compliance or a different compliance time for this AD, follow the procedures in 14 CFR 39.19. Contact the Rotorcraft Certification Office, Rotorcraft Directorate, FAA, for information about previously approved alternative methods of compliance.

(e) This amendment becomes effective on November 21, 2005.

Issued in Fort Worth, Texas, on October 7, 2005.
David A. Downey,
Manager, Rotorcraft Directorate, Aircraft Certification Service.

[FR Doc. 05-20680 Filed 10-14-05; 8:45 am]

BILLING CODE 4910-13-P